OFFICE OF THE UNITED STATES TRADE REPRESENTATIVE

[Docket No. USTR-2013-0038]

2013 Special 301 Out-of-Cycle Review of El Salvador: Identification of Countries Under Section 182 of the Trade Act of 1974: Request for Public Comment

AGENCY: Office of the United States Trade Representative.

ACTION: Request for written submissions from the public.

SUMMARY: Section 182 of the Trade Act of 1974 (Trade Act) (19 U.S.C. 2242) requires the United States Trade Representative (USTR) to identify countries that deny adequate and effective protection of intellectual property rights (IPR) or deny fair and equitable market access to U.S. persons who rely on intellectual property protection. (The provisions of Section 182 are commonly referred to as the “Special 301” provisions of the Trade Act.) The USTR is required to determine which, if any, of these countries should be identified as Priority Foreign Countries. In addition, USTR has created a “Priority Watch List” and “Watch List” under Special 301 provisions. Placement of a trading partner on the Priority Watch List or Watch List indicates that particular problems exist in that country with respect to IPR protection, enforcement, or market access for persons relying on intellectual property. Countries placed on the Priority Watch List are the focus of increased bilateral attention concerning the problem areas.

In the 2013 Special 301 Report (www.ustr.gov), USTR announced that, in order to monitor progress on specific IPR issues, Out-of-Cycle Reviews would be conducted for El Salvador and Spain. At this time, USTR requests written submissions from the public concerning any act, policy, or practice that is relevant to the decision regarding whether El Salvador should be identified under Section 182 of the Trade Act. Requests for written submissions relating to the review of Spain will be made in a separate notice at a later date.

DATES: Submissions from the general public must be received on or before 10:00 a.m. on Friday, December 13, 2013. Foreign governments who choose to make written submissions may do so on or before 10:00 a.m. on Friday, December 20, 2013.

ADDRESSES: All comments should be sent electronically to http://www.regulations.gov, docket number USTR-2013-0038. Submissions should contain the term “2013 Special 301 Out-of-Cycle Review of El Salvador” in the “Type Comment” field on http://www.regulations.gov.

FOR FURTHER INFORMATION CONTACT: Michael Diehl, Director for Intellectual Property and Innovation, Office of the United States Trade Representative, at (202) 395-6126.

SUPPLEMENTARY INFORMATION: Pursuant to Section 182 of the Trade Act, USTR must identify those countries that deny adequate and effective protection for intellectual property rights or deny fair and equitable market access to U.S. persons who rely on intellectual property protection. Those countries that have the most onerous or egregious acts, policies, or practices and whose acts, policies, or practices have the greatest adverse impact (actual or potential) on relevant U.S. products are to be identified as Priority Foreign Countries. Acts, policies, or practices that are the basis of a country's designation as a Priority Foreign Country are normally the subject of an investigation under the Section 301 provisions of the Trade Act. USTR may not identify a country as a Priority Foreign Country if that country is entering into good faith negotiations or making significant progress in bilateral or multilateral negotiations to provide adequate and effective protection of intellectual property rights. In addition, USTR has created a “Priority Watch List” and a “Watch List” under Special 301 provisions. Placement of a trading partner on the Priority Watch List or Watch List indicates that particular problems exist in that country with respect to IPR protection, enforcement, or market access for persons relying on intellectual property. Countries placed on the Priority Watch List are the focus of increased bilateral attention concerning the problem areas.

USTR requests that, where relevant, submissions mention particular regions, provinces, states, or other subdivisions of a country in which an act, policy, or practice deserve special attention. Submissions may report positive or negative developments with respect to these entities.

Requirements for Comments: Comments should include a description of the problems experienced by the submitter and the effect of the acts, policies, and practices on U.S. industry. Comments should be as detailed as possible and should provide all necessary information for assessing the effect of the acts, policies, and practices. Any comments that include quantitative loss claims should be accompanied by the methodology used in calculating such estimated losses. Comments must be in English.

To ensure the timely receipt and consideration of comments, USTR strongly encourages interested persons to make on-line submissions, using the www.regulations.gov Web site. To submit comments via www.regulations.gov, enter docket number USTR-2013-0038 on the home page and click “Search.” The site will provide a search-results page listing all documents associated with this docket. Find a reference to this notice and click on the link entitled “Comment Now!” (For further information on using the www.regulations.gov Web site, please consult the resources provided on the Web site by clicking on “How to use Regulations.gov” on the bottom of the home page under “Help”.)

The www.regulations.gov Web site allows users to provide comments by filling in a “Type Comment” field, or by attaching a document using an “Upload File” field. USTR prefers that comments be provided in an attached document. If a document is attached, please type “2013 Special 301 Out-of-Cycle Review of El Salvador” in the “Type Comment” field. USTR prefers submissions in Microsoft Word (.doc) or Adobe Acrobat (.pdf) format. If the submission is in another format, please indicate the name of the software application in the “Type Comment” field.

For any comments submitted electronically containing business confidential information, the file name of the business confidential version should begin with the characters “BC”. Any page containing business confidential information must be clearly marked “BUSINESS CONFIDENTIAL” on the top of that page. Filers of submissions containing business confidential information must also submit a public version of their comments. The file name of the public version should begin with the character “P”. The “BC” and “P” should be followed by the name of the person or entity submitting the comments. Filers submitting comments containing no business confidential information should name their file using the name of the person or entity submitting the comments.

Please do not attach separate cover letters to electronic submissions; rather, include any information that might appear in a cover letter in the comments themselves. Similarly, to the extent possible, please include any exhibits, annexes, or other attachments in the same file as the submission itself, not as separate files.

As noted, USTR strongly urges submitters to file comments through www.regulations.gov, if at all possible. Any alternative arrangements must be made with Anita Kyler in advance of transmitting a comment. Ms. Kyler should be contacted at (202) 395-9665.

Public Inspection of Comments: Submissions will be placed in the docket and open to public inspection pursuant to 15 CFR 2006.13, except business confidential information exempt from public inspection in accordance with 15 CFR 2006.15. Submissions may be viewed on the www.regulations.gov Web site by entering docket number USTR-2013-0038 in the search field on the home page.

Stanford K. McCoy,
Assistant USTR for Intellectual Property and Innovation.

[FR Doc. 2013-27984 Filed 11-21-13; 8:45 am]

BILLING CODE 3290-F4-P